DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce has received requests to conduct administrative reviews of various antidumping and countervailing duty orders and findings with June anniversary dates. In accordance with the Department's regulations, we are initiating those administrative reviews. The Department also received requests to revoke two antidumping duty orders in part.

EFFECTIVE DATE: July 31, 2000.

FOR FURTHER INFORMATION CONTACT: Holly Kuga, Office of AD/CVD Enforcement, Import Administration, International Trade Administration, U.S. Department of Commerce, 14th Street and Constitution Avenue, N.W., Washington, D.C. 20230, telephone: (202) 482-4737.

SUPPLEMENTARY INFORMATION:

Background

The Department has received timely requests, in accordance with 19 CFR 351.213(b)(2000), for administrative reviews of various antidumping and countervailing duty orders and findings with June anniversary dates. The Department also received timely requests to revoke in part the antidumping duty orders on Tapered Roller Bearings and Parts Thereof from the People's Republic of China and Polyethylene Terephthalate Film, Sheet and Strip (Pet Film) from the Republic of Korea.

Initiation of Reviews

In accordance with 19 CFR 351.221(c)(1)(i), we are initiating administrative reviews of the following antidumping and countervailing duty orders and findings. We intend to issue the final results of these reviews not later than June 30, 2001.

| Period to be reviewed
Antidumping Duty Proceedings
Canada: Oil Country Tubular Goods ¹
A-122-506 | 06/01/99-05/31/00
Atlas Tube Inc
JAPAN: Hot-Rolled Flat-Rolled Carbon-Quality Steel Products
A-588-846 | 02/19/99-05/31/00
Kawasaki Steel Corporation
Netherlands: Aramid Fiber Formed of Poly Para-Phenylene Terephthalamide (“PPD-T”)
A-421-805 | 06/01/99-05/31/00
Twaron Products V.o.F
Republic of Korea: Polyethylene Terephthalate Film, Sheet and Strip (Pet Film)
A-580-807 | 06/01/99-05/31/00
SKC Co., Limited
H.S. Industries Co., Ltd
Hyosung Corporation
Taiwan: Certain Stainless Steel Butt-Weld Pipe Fittings
A-583-816 | 06/01/99-05/31/00
Ta Chen Stainless Steel Pipe, Ltd
The People's Republic of China:
Tapered Roller Bearings ²
A-570-601 | 06/01/99-05/31/00
¹ This order is currently undergoing a sunset review pursuant to section 751(c) of the Act. If subsequent to publication of this initiation notice the order is revoked pursuant to sunset, any review (if initiated) or automatic liquidation instruction (if no review is initiated) will only cover through the last day prior to the effective date of revocation.
² If one of the above named companies does not qualify for a separate rate, all other exporters of tapered roller bearings from the People's Republic of China who have not qualified for a separate rate are deemed to be covered by this review as part of the single PRC entity of which the named exporter is a part.

Zhejiang changsan (Bearing) Group Co. Ltd.

Yantai CMC Bearing Co., Ltd.

Louyang Bearing Factory

Wafangdian Bearing Factory

Wafangdian Bearing Industry Co.

Wafangdian Bearing Factory, Liaoning Province

Shanghai China Bearing Factory

Shanghai Zhenhua Bearing General Company

SKF Automobile Bearing Co., Ltd. (SKF -Zhenhua or SKF—Zhenghua)

Beijing SKF—Nankou Railway Bearings Corp., Ltd.

Xi'an Haihong Bearings Factory

Dalian Metallurgical Bearings Group Corp.

Luoyang Dongsheng Bearings Corp., Ltd.

City Bearings Industrial Co., Ltd.

Fujian Yong'an Bearing Co., Ltd.

Ningbo Huanchi Group Corporation

Shandong Lunan Bearing Co., Ltd.

Xinjiang Bearing General Company

Liaoning Xingcheng Bearing Co., Ltd.

Nanjing Bearing Factory

Renben Group (Hangzhou Bearing Factory)

Qingdao No. 2 Bearing Factory

Shandong Liangshan Jingjiu Bearing Co., Ltd.

Hubei Xishui Bearing Factory

Zhangjiagang AAA Bearing Co., Ltd.

Baishan Bearing Co., Ltd.

Dandong Bearing Factory

Xiantao Special Bearing Co., Ltd.

Jamusi Bearing Factory

Luoyang Luoling Bearing Co., Ltd.

Shandong Wendeng Bearing Factory

Jingjiang Bearing Factory

Yunnan Honghe Bearing Factory

Dalong Bearing Factory

Beijing Renmin Bearing Factory

Xiangyang No. 2 Bearing Factory

Sichuang Dongfang Bearing Factory

Shanxi Baoji Bearing Factory

Shanghai Lianhe (United) Rolling Bearing Co., Ltd.

FAG Automotive Bearing (Shanghai) Co., Ltd.

Guyang Bearing Factory

Harbin Bearing Group Corporation

Xiangyang Automobile Bearing Co., Ltd.

Xiangyang Bearings

Chengdu Bearing Factory

Xibei Bearing Group Company, Ltd.

Changzhi Bearing Factory

Wuxi No. 3 Bearing Factory

Chongqing Bearing Industrial Company

Changge Bearing Factory

Guizhou Hongshan Bearing Factory I/E Corp.

Hunan Zhuzhou Bearing General Factory

Nanan General Bearing Works

Ningbo Cixi Nailin Bearings Co., Ltd.

Ningxia Xibei Bearing Factory

Shenyang General Bearings

Taizhou Guotai Bearing Co., Ltd.

Zhejiang Lishui Waite Bearing Industrial Co., Ltd.

Shijiazhuang Imported Bearings

China National Machinery & Equipment Import & Export Corporation, Beijing

China National Machinery and Equipment Import and Export Corporation (CMEC), Beijing

Henan Machinery and Equipment Import and Export Corporation

The China National Machinery and Equipment Import and Export Corporation, Henan Co., Ltd.

Guizhou Machinery Import and Export Corporation

Liaoning Machinery Import and Export Corporation

The China National Machinery and Equipment Import and Export Corporation, Liaoning Co., Ltd.

Liaoning MEC Group Co., Ltd.

Jilin Machinery Import and Export Corporation

China National Machinery Import and Export Corporation of Jilin Province

The China National Machinery and Equipment Import and Export Corporation, Guizhou Branch

China National Machinery and Equipment Import Export Company (CMEC), Zhejiang

Guizhou Machinery Import and Export Corporation Guiyang, Guizhou China

China National Automotive Industry Import & Export Corporation

China National Automotive Industry Import & Export Corporation, Guizhou China

China National Automotive Industry Guizhou Import/ Export Corp.

Xiangfan Machinery Import & Export (Group) Corp.

Xiangfan Machinery Foreign Trade Corporation

Xiangfan International Trade Corp.

Wanxiang Group Corporation

Shandong Machinery and Equipment Import & Export Corporation

Shandong Machinery and Equipment Import & Export Group Corporation

Hangzhou Metals, Minerals, Machinery & Chemical Import Export Corporation

China Metals, Minerals, Machinery & Chemicals Import Export Corporation

China Great Wall Industry Company

Premier Bearing & Equipment, Ltd.

Chin Jun Industrial, Ltd.

China National Machinery Import/Export Corporation, Yantai

China National Machinery and Equipment Corp., Changsha

China National Machinery and Equipment Import Export Company (CMEC), Hunan

Shanghai Machinery & Equipment Import & Export Corp.

Shanghai Machinery Import/Export Corp.

Hubei Provincial Machinery Import & Export Corp.

Zhejang Machinery Import/Export Corp.

Tianshui Hailin Import & Export Corporation

Heilongjang Machinery Import/Export

Shandong Machinery Import/Export Corp.

Shanghai Pacific Machinery Import & Export Corp.

Shaanxi Machinery & Equipment I/E Corp.

Guangdong Machinery and Equipment Import & Export

Guangdong Machinery and Equipment Import & Export (Group) Corporation

East Sea Bearing Co., Ltd.

Shanghai General Bearing Co., Ltd.³

³ With respect to Shanghai General Bearing Co., Ltd., this initiation notice only applies with respect to subject merchandise entered or sold during the period by Shanghai General Bearing Co., Ltd., but not produced by Shanghai General Bearing Co., Ltd.

Direct Source International

Goldhill International Trading & Services Co.

Bilop International

China Aeolus Automotive Industries Import Export Corporation

Flying Dragon Machinery

Harbin Bearing Factory

Luoyang Bearing Research Institute of the Ministry Of Machinery & Electronics Industry

The Tenth Institute of Machinery Project Planning & Research of the Ministry of Machinery & Electronics Industry

Shanghai Rolling Bearing Factory

Xiangyang Bearing Factory

Shanghai Miniature Bearing Factory

Suzhou Bearing Factory

Chengdu General Bearing Factory

Hailin Bearing Factory

Hongshan Bearing Factory

Guiyang Bearing Factory

Haihong Bearing Factory

Lanzhou Bearing Factory

Xibei Bearing Factory

Beijing Bearing Research Institute

Changzhi People Factory

Beijing People Bearing Factory

Handan Bearing Factory

Jining Bearing Factory

Shenyang Bearing Factory

Chaoyang Bearing Factory

Shenyang Steel Ball Plant

Gongzhuling Bearing Factory

Wuxi Miniature Bearing Factory

Jiamusi Bearing Factory

Shanghai Bearing Technology Research Institute

Zhongguo Bearing Factory

Xiamen Bearing Factory

Shanghai Hongxing Bearing Factory

Shanghai Steel Ball Plant

Wuxi Bearing Factory

Hangzhou Bearing Factory

Hefei Bearing Factory

Huainan Bearing Factory

Longxi Bearing Factory

Jiangxi Bearing Factory

Liangshan Bearing Factory

Jinan Bearing Factory

Qingdao Steel Ball Plant

Huangshi Bearing Factory

Hhubei Steel Ball Plant

Changsha Bearing Factory

Guangzhou Bearing Factory

Guangxi Bearing Factory

Chongqing General Bearing Factory

Chongqing Steel Ball Plant

Yunnan Bearing Factory

Baoji Bearing Factory

Tianshui Bearing Instrument Plant

Beijing Needle Roller Bearing Factory

Tianjin Miniature Bearing Factory

Datong Bearing Factory

Hebei Rolling Mill Bearing Factory

Hebei Bearing Factory

Chengde Bearing Factory

The Third Bearing Factory of Shanxi

Anshan Bearing Factory

Yingkou Bearing Factory

Xingcheng Bearing Factory

Hunjiang Bearing Factory

Daan Bearing Factory

Shanghai Hunan Bearing Factory

Shanghai Pujiang Bearing Factory

Shanghai Changning Bearing Factory

Shanghai Needle Roller Bearing Factory

Xuzhou Revolving Support Factory

Taian Bearing Factory

Changshu Bearing Factory

Northwest Bearing Plant

Huangshi Bearing Factory

Guangxi Bearing Factory

Chongqing Bearing Factory

Yunnan Bearing Factory

Baoji Bearing Factory

Xiangtan Bearing Factory

Shaoguan Bearing Factory

Xinjiang Bearing Factory

The Second Bearing Factory of Xuzhou

Houzhou Bearing Factory

Yuxi Bearing Factory

Chifeng Bearing Factory

Huangyian Bearing Factory

Xingchang Bearing Factory

Liuan Bearing Factory

Zibo Bearing Factory

Jining Bearing Factory (Shandong)

Luoyang Dongfeng Bearing Factory

Kaifeng Bearing Factory

Ghangge Bearing Factory

The Second Machine Tools Electric

Apparatus Plant of Anyang

Shashi Bearing Factory

Wuhan Bearing Factory

Changde Bearing Factory

Hengyang Bearing Factory

Hubei Bearing Factory

Yueyang Bearing Factory

Zhuzhou Bearing Factory

Fanchang Bearing Factory

Dongguan Bearing Factory

Chengdu Bearing Company

Sichuan Small Size Bearing Factory

Leshan Bearing Factory

Honghe Bearing Factory

Shaanxi Bearing Factory

Shijiazhuang Bearing factory

Shanxi Bearing Factory

Xiangtan Bearing Factory

Shaoguan Bearing Factory

Xinjiang Bearing Factory

Beijing-Pinggu Bearing Factory

Huhhot Bearing Factory

Dalian Bearing Instrument Plant

Nantong Bearing Factory

Qingjiang Bearing Factory

Wuhu Bearing Factory

Yiyang Bearing Factory

Zhongshan Bearing Factory

Handan Bearing Factory

Xingcheng Bearing Factory

China National Automotive Import & Export Corporation

China National Automotive Industry Import & Export Corporation

China National Automotive Industry Xiamen Import/Export Corporation/Shanghai

China National Automotive Industry Xiamen Import/Export Corporation

China National Machinery/Equipment Corp., Harbin Branch

Kenwa Shipping Co., Ltd.

Far East Enterprising Co. (H.K.) Ltd.

Far East Enterprising (H.K.) Co.

Pantainer Express Line Co.

Intermodal Systems Ltd.

China Ningbo Int'l Economic & Technical Cooperation Corp.

China Ningbo Cixi Import/Export Corp.

Ningbo Xing Li Bearing Co., Ltd.

Ningbo Yinxian Import/Export Corp. China

Ningbo Yinxian Import/Export Corp. Hong Kong

Santoh HK Ltd.

Huuzhou Import and Export Corp.

Ideal Consolidators Ltd.

Cargo Services Far East Ltd.

China Resources Transportation & Godown Co., Ltd.

China Travel Service (HK) Ltd.

Fortune Network Ltd.

China Jiangsu Technical Import/Export Corp.

Kaitone Shipping Co., Ltd.

Profit Cargo Service Co., Ltd.

United Cargo Management, Inc.

Zhejang Expanded Bearing Co. China

Zhejang Expanded Bearing Co. Hong Kong

Zhejang Yongtong Company China

Zhejang Yongtong Company Hong Kong

Wafangdian Hyatt Bearing Manufacturing Co., Ltd.

China National Bearing Joint Export Corp.

PFL Pacific Forwarding, Ltd.

Sui Jun International Ltd.

Wah Shun Shipping Co., Ltd.

Aempac System, Inc.

Xinguang Ind. Prod. Import/Export Corp. of Sichuan Province

Sunway Line, Inc.

Trans-Ocean Bridge Services, Ltd.

Scanwell Container Line Ltd.

Scanwell Consolidators & Forwarders Ltd.

China Machine-Bearing International Corp.

Hyaline Shipping (HK) Co., Ltd.

Long Trend Ltd.

Waiwell Shipping Ltd.

Special Line Ltd.

YK Shipping International, Inc.

Blue Anchor Line Co.

Onan Shipping Ltd.

Shanghai Bearing Corporation

Wing Tung Wei (China) Ltd.

China Merchants S & E Co., Ltd.

Zhejiang Huangli Bearing Co., Ltd.

China Ningbo International Economic & Technical Cooperation Corporation

Ningbo Free Trade Zone

China National Machinery Imp. & Exp. Corp., Chongquing Branch

China-East Resources International

Distribution Services Ltd.

Inteks Inc. N.V.O.C.C.

Shaanxi Machinery & Equipment Imp. & Exp. Corp.

United Cargo Management Inc., Dalian Office

China Tiancheng Jiangsu Corp. Nanjing

China Tiancheng Jiangsu Corp. Shanghai

Zhejiang East Sea Bearing Co., Ltd.

Mayer Shipping Ltd. HK

Wholelucks Industrial Lim.

Peko Incorporation

O/B Manfred Development Co., (HK) Ltd.

Asia Stone Company Limited

Asia (USA) Inc. (Shanghai)

Xiamen Special Economic Zone Trade Co. Ltd.

SEC Line Ltd.

Jebsin Shipping Ltd.

Heika Express International Ltd.

J.P. Freight, Inc. Shanghai, PRC

Brilliant Ocean Ltd. Corp. (USA)

Transunion International Company Hong Kong

Roson Express Int'l Co., Ltd.

Streamline Shippers Association Hong Kong

Laconic Freight Forwarding Co., Ltd.

Mitrans Shipping Co., Ltd.

Distribution Services Ltd.

The Ultimate Freight Management (H.K.) Ltd.

Ideal Consolidators Ltd.

Luoyang Bearing Research Institute

Burlington Air Express Ltd.

Janco Int'l Freight Ltd.

Phoenix Shanghai China

Shanghai Dong Yu Materials Co., Ltd.

Guandong Lingnan Industrial Products

Guandong Lingnan Industrial Products Import & Export Corporation

Sunrise Industrial Technology Co.

Dongguan Industry Development Corp.

Hi Light Int'l, Inc.

Ever Concord Ltd.

Kin Bridge Express (USA) Inc.

Wice Marine Services Ltd.

Welley Shipping, Ltd.

WSA Lines, Ltd.

Triumph Express Service Int'l Ltd.

World Pacific Container Line Ltd.

Hellman Int'l Forwarders, Ltd.

Sino Eagle Co.

Ever Concord Ltd. (Guangzhou)

Ideal Ocean Lines, Ltd.

MSAS Cargo Int'l (Far East) Ltd.

Ocean Navigator Express Line

Sunrise Industries Technology Co.

China Mudanjiang Heading Factory

Apex Maritime Co., Inc.

Apex Maritime Co., Inc. (Dalian)

Dalian Machine Tool Accessories

Everich Shipping, Ltd.

Eternity Int'l Freight Forwarder

Ningbo Tiansheng Bearing Corp.

Trans-Am Sea Freight (HK) Ltd.

Zhong Shan Transportation Co., Ltd.

Shenzhen Rising Sun Bearing

Goldline Ltd.

Leader Express International (HK)

Transnation Shipping Ltd.

Mayer Shipping Ltd.

Shenzhen Jinyuan Industrial

Transunion International Co., Ltd.

Orient Star Consolidating

Capital Distribution Services

Buyers Consolidators Ltd.

Versatile Int'l Corp.

Panalpina China, Ltd.

Trust Freight Services, Inc.

Wah Hing Trading Co.

China North Industries

Point Talent International Ltd.

Votainer Far East BV

Seatop Shipping Ltd.

AEL Asia Express (HK) Ltd.

Kenwa Shipping Co., Ltd.

Wuxi Viking General

Exbo Shipping Co., Ltd.

Cots Shipping Co., Ltd.

Shenzen South China International

Oceanic Bridge International Inc.

Streamline Shippers Association

China Jiansu Technical Import & Export Corp.

Ever Concord Ltd.

Air Sea Container Line, Inc.

CL Consolidator Services Ltd.

OAG International, Inc.

Zhejiang Xinchang Foreign Economic

Heicone Jiang Machinery Import & Export

Wenling Foreign Trading Corporation

Scanwell Freight Express Co., Ltd.

C.U. Transport, Inc.

Shanghai Dongyu Materials Co.

EAS International

EAS International Transportation Co., Ltd.

Ensign Freight (China) Ltd.

Amec International Co., Inc.

China Dong Feng Motor

Rong Shang International Corp.

Air Sea Transport, Inc.

Air Sea Transport, Inc., Yantai Office

Air Sea Transport, Inc., Dalian

Wuhan Machinery & Equipment

STS Machinery, Inc.

USA International Business

Hang Cheong Shipping Co., Ltd.

Deckwell Sky Express, Inc.

China Machinery Equipment Import & Export Wuxi Co., Ltd.

China Machinery & Equipment Import & Export Co., Ltd. (Jiangying Bearing Works)

China Xian Import & Export Corporation

China Jiangsu Machinery and Equipment Import &

Export Wuxi Co., Ltd.

China Jiangsu Machinery Import and Export (Group) Corp.

China National Packaging Import & Export Nanjing Corporation

China National Machinery and Equipment Import and Export Corporation (CMEC)

CMEC Sichan

CMEC Henan

CMEC Shandong

CMEC Jiangsu

CMEC Guangdong

CMEC Hebei

CMEC Hunan

CMEC Anhui

CMEC Hubei

CMEC Zhejiang

CMEC Liaoning

CMEC Jiangxi

CMEC Yunnan

CMEC Heilongjiang

CMEC Shaanxi

CMEC Guizhou

CMEC Fujian

CMEC Shanxi

CMEC Jilin

CMEC Gansu

CMEC Hainan

CMEC Qinghai

CMEC Chengdu

CMEC Zengzhou

CMEC Tsinan

CMEC Nanjing

CMEC Guangzhou

CMEC Shijiazhuang

CMEC Changsha

CMEC Hefei

CMEC Wuhan

CMEC Hangzhou

CMEC Shenyang

CMEC Nanchang

CMEC Kunming

CMEC Harbin

CMEC Xian

CMEC Guiyang

CMEC Fuzhou

CMEC Taiyuan

CMEC Changchun

CMEC Lanzhou

CMEC Haikou

CMEC Xining

CMEC Guangxi Zhuang

CMEC Nei Monggol

CMEC Xinjiang Uygur

CMEC Ningxia Hui

CMEC Xizang

CMEC Nanning

CMEC Hohhot

CMEC Urumqi

CMEC Yinchuan

CMEC Lhasa

CMEC Shanghai

CMEC Beijing

CMEC Tianjin

China National Machinery Import and Export Corporation (CMC)

Sichuan CMC

Henan CMC

Shandong CMC

Jiangsu CMC

Guangdong CMC

Hebei CMC

Hunan CMC

Anhui CMC

Hubei CMC

Zhejiang CMC

Liaoning CMC

Jiangxi CMC

Yunnan CMC

Heilongjiag CMC

Shaanxi CMC

Guizhou CMC

Fujian CMC

Shanxi CMC

Jilin CMC

Gansu CMC

Hainan CMC

Qinghai CMC

Chengdu CMC

Zengzhou CMC

Tsinan CMC

Nanjing CMC

Guangzhou CMC

Shijiazhuang CMC

Changsha CMC

Hefei CMC

Wuhan CMC

Hangzhou CMC

Shenyang CMC

Nanchang CMC

Kunming CMC

Harbin CMC

Xian CMC

Guiyang CMC

Fuzhou CMC

Taiyuan CMC

Changchun CMC

Lanzhou CMC

Haikou CMC

Xining CMC

Guangxi Zhuang CMC

Nei Monggol CMC

Xinjiang Uygur CMC

Ningxia Hui CMC

Xizang CMC

Nanning CMC

Hohhot CMC

Urumqi CMC

Yinchuan CMC

Lhasa CMC

Shanghai CMC

Beijing CMC

Tianjin CMC

Countervailing Duty Proceedings

None.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: July 28, 2000.
Holly A. Kuga,
Acting Deputy Assistant Secretary, Group II for Import Administration.

[FR Doc. 00-19285 Filed 7-28-00; 8:45 am]

BILLING CODE 3510-DS-P